DEPARTMENT OF ENERGY

Federal Energy Regulatory Commission

Combined Notice of Filings # 1

May 30, 2007.

Take notice that the Commission received the following electric corporate filings:

Docket Numbers: EC06-15-001; EC06-78-001; EC07-37-001; EC06-147-001.

Applicants: Entegra Power Group LLC; Gila River Power, L.P.; Union Power Partners, L.P.; Morgan Stanley & Co. Incorporated; Merrill Lynch; Pierce, Fenner & Smith Inc.; Entegra Holdings LLC; Entegra TC LLC.

Description: Application by Entegra Power Group, LLC et al for order amending blanket authorizations for certain future transfers & acquisitions of equity interests under Section 203.

Filed Date: 5/15/2007.

Accession Number: 20070524-0006.

Comment Date: 5 p.m. Eastern Time on Tuesday, June 5, 2007.

Docket Numbers: EC07-94-000.

Applicants: Forked River Power LLC.

Description: Forked River Power LLC submits an application for its proposed acquisition of the Forked River Generating Station with related assets and real property from Jersey Central Power & Light Co.

Filed Date: 5/21/2007.

Accession Number: 20070524-0116.

Comment Date: 5 p.m. Eastern Time on Monday, June 11, 2007.

Docket Numbers: EC07-95-000.

Applicants: UBS Americas Inc.; UBS International Infrastructure Fund; UBS AG; Northern Star Generation LLC; AIG Global Investment Corp.; Front Range Power Company, LLC; Vandolah Power Company, LLC.

Description: UBS Americas Inc et al submit a Joint Application for authorization for disposition of jurisdictional assets pursuant to section 203 of the FPA.

Filed Date: 5/21/2007.

Accession Number: 20070524-0087.

Comment Date: 5 p.m. Eastern Time on Monday, June 11, 2007.

Docket Numbers: EC07-96-000.

Applicants: Eagle Energy Partners I, LP; Lehman Brothers Commodity Services Inc.

Description: Eagle Energy Partners I, LP et al submit an application under Section 203 for authorization of disposition of jurisdictional facilities resulting from Lehman's proposed acquisition of all ownership interest in Eagle.

Filed Date: 5/21/2007.

Accession Number: 20070524-0181.

Comment Date: 5 p.m. Eastern Time on Monday, June 11, 2007.

Docket Numbers: EC07-97-000.

Applicants: Ecofin Holdings Limited; Ecofin Limited; Ecofin, Inc.; Ecofin Fund Management Limited; Ecofin General Partner Limited; Ecofin Water & Power Opportunities Plc; Ecofin Global Utilities Hedge Fund Limit; Ecofin Global Utilities Hedge Fund LP; Ecofin Global Utilities Master Fund Limited; Ecofin Special Situations Utilities Fund; Ecofin Special Situations Utilities Fund; Ecofin Special Situations Utilities Master; HFR HE Ecofin Master Trust.

Description: Ecofin Holdings Limited et al submit its request for blanket authorization to acquire securities under Section 203 of the FPA.

Filed Date: 5/24/2007.

Accession Number: 20070529-0241.

Comment Date: 5 p.m. Eastern Time on Thursday, June 14, 2007.

Take notice that the Commission received the following exempt wholesale generator filings:

Docket Numbers: EG07-56-000.

Applicants: Tiverton Power LLC and Rumford Power LLC.

Description: Tiverton Power LLC and Rumford Power LLC notice of Self-Certification of Exempt Wholesale Generator Status as the Proposed Owners of the Tiverton and Rumford Generating Facilities.

Filed Date: 5/24/2007.

Accession Number: 20070524-5068.

Comment Date: 5 p.m. Eastern Time on Thursday, June 14, 2007.

Take notice that the Commission received the following electric rate filings:

Docket Numbers: ER99-1761-002.

Applicants: AES Eastern Energy, LP.

Description: AES Eastern Energy, LP submits a notice of Non-Material Change in Status Regarding Market-Based Rate Authority.

Filed Date: 5/24/2007.

Accession Number: 20070524-5010.

Comment Date: 5 p.m. Eastern Time on Thursday, June 14, 2007.

Docket Numbers: ER01-1266-008; ER01-1270-010; ER01-1267-010; ER01-1278-010; ER01-1268-009; ER01-1271-009; ER01-1272-008; ER01-1269-008; ER01-1273-009; ER01-1277-008; ER02-1213-007; ER06-406-001.

Applicants: Mirant California, LLC; Mirant Delta, LLC; Mirant Canal, LLC; Mirant Kendall, LLC; Mirant Potrero, LLC; Mirant Bowline, LLC; Mirant Lovett, LLC; Mirant Chalk Point, LLC; Mirant Mid-Atlantic, LLC; Mirant Potomac River, LLC; Mirant Energy Trading, LLC; Mirant Power Purchase, LLC.

Description: Mirant Entities submits Notice of a Non-Material Change in Status to reflect certain departures from the facts the Commission relied upon in granting market-based rate authority.

Filed Date: 5/22/2007.

Accession Number: 20070524-0120.

Comment Date: 5 p.m. Eastern Time on Tuesday, June 12, 2007.

Docket Numbers: ER05-1178-010; ER05-1191-010.

Applicants: Gila River Power, L.P.; Union Power Partners, L.P.

Description: Gila River Power, L.P. et al submits notice of non-material change in status relating to their upstream ownership structure.

Filed Date: 5/24/2007.

Accession Number: 20070529-0244.

Comment Date: 5 p.m. Eastern Time on Thursday, June 14, 2007.

Docket Numbers: ER06-456-011; ER06-954-007; ER06-1271-006; ER07-424-002.

Applicants: PJM Interconnection, L.L.C.

Description: PJM Interconnection, LLC submits amendments to Schedule 12—Appendix to reflect the allocation of cost responsibility on a region-wide basis etc, in compliance with FERC's 4/19/07 Order.

Filed Date: 5/21/2007.

Accession Number: 20070524-0038.

Comment Date: 5 p.m. Eastern Time on Monday, June 11, 2007.

Docket Numbers: ER07-335-001; ER07-335-000.

Applicants: E.ON U.S., LLC.

Description: E.ON U.S., LLC submits a motion to withdraw Service Agreement Filing.

Filed Date: 5/16/2007.

Accession Number: 20070516-5085.

Comment Date: 5 p.m. Eastern Time on Wednesday, June 6, 2007.

Docket Numbers: ER07-569-001.

Applicants: California Independent System Operator Corporation.

Description: California Independent System Operator Corp submits its Compliance Filing re Load Scheduling Amendment to the ISO Tariff in accordance with FERC's April 24, 2007 Order.

Filed Date: 5/23/2007.

Accession Number: 20070525-0074.

Comment Date: 5 p.m. Eastern Time on Wednesday, June 13, 2007.

Docket Numbers: ER07-577-002.

Applicants: The Midwest Independent Transmission System Operator, Inc.

Description: Midwest Independent Transmission System Operator, Inc submits supplemental information pursuant to FERC's 4/20/07 Deficiency Letter.

Filed Date: 5/22/2007.

Accession Number: 20070524-0119.

Comment Date: 5 p.m. Eastern Time on Tuesday, June 12, 2007.

Docket Numbers: ER07-577-003.

Applicants: Midwest Independent Transmission System.

Description: Endeavor Power Partners, LLC submits responses to FERC's Data Requests, 4/20/06 deficiency letter.

Filed Date: 5/21/2007.

Accession Number: 20070524-0118.

Comment Date: 5 p.m. Eastern Time on Monday, June 11, 2007.

Docket Numbers: ER07-613-001.

Applicants: California Independent System Operator Corporation.

Description: California Independent System Operator Corp submits its Compliance Filing in accordance with FERC's May 8 Order.

Filed Date: 5/23/2007.

Accession Number: 20070525-0076.

Comment Date: 5 p.m. Eastern Time on Wednesday, June 13, 2007.

Docket Numbers: ER07-876-001.

Applicants: Chevron Coalinga Energy Company; Texaco Natural Gas Inc.

Description: Chevron Coalinga Energy Co submits an amendment to the 5/9/07 filing of a notice succession and tariff filing to renumber and re-date the redline and clean tariff sheets.

Filed Date: 5/23/2007.

Accession Number: 20070525-0077.

Comment Date: 5 p.m. Eastern Time on Wednesday, June 13, 2007.

Docket Numbers: ER07-877-001.

Applicants: WSPP Inc.

Description: Grays Harbor Energy LLC requests that FERC accept an amendment to WSPP, Inc's Agreement to include them as a participant.

Filed Date: 5/23/2007.

Accession Number: 20070525-0075.

Comment Date: 5 p.m. Eastern Time on Wednesday, June 13, 2007.

Docket Numbers: ER07-919-000.

Applicants: Mint Farm Energy Center LLC.

Description: Mint Farm Energy Center LLC submits an application for Market-Based Rate Authority and Associated Waivers and Blanket Approvals.

Filed Date: 5/21/2007.

Accession Number: 20070524-0059.

Comment Date: 5 p.m. Eastern Time on Monday, June 11, 2007.

Docket Numbers: ER07-920-000.

Applicants: Entergy Services, Inc.

Description: Entergy Services, Inc agent for Entergy Operating Companies submits an executed Second Revised Network Integration Transmission Service Agreement etc with the City of Ruston, Louisiana.

Filed Date: 5/22/2007.

Accession Number: 20070524-0081.

Comment Date: 5 p.m. Eastern Time on Tuesday, June 12, 2007.

Docket Numbers: ER07-923-000.

Applicants: California Independent System Operator Corporation.

Description: California Independent System Operator Corp submits an executed Metered Subsystem Agreement with the City of Riverside, CA and a notice of termination for Service Agreements 424 and 636.

Filed Date: 5/18/2007.

Accession Number: 20070524-0061.

Comment Date: 5 p.m. Eastern Time on Friday, June 8, 2007.

Docket Numbers: ER07-930-000.

Applicants: AER NY-Gen, LLC.

Description: AER NY-Gen, LLC submits a revised Market-Based Rate Tariff to reflect a name change etc.

Filed Date: 5/23/2007.

Accession Number: 20070525-0067.

Comment Date: 5 p.m. Eastern Time on Wednesday, June 13, 2007.

Docket Numbers: ER07-931-000.

Applicants: Oncor Electric Delivery Company.

Description: Oncor Electric Delivery Co submits First Revised Sheet 37 et al to FERC Electric Tariff, Tenth Revised Volume 1 to be effective 4/26/07.

Filed Date: 5/24/2007.

Accession Number: 20070525-0066.

Comment Date: 5 p.m. Eastern Time on Thursday, June 14, 2007.

Docket Numbers: ER07-932-000.

Applicants: Oncor Electric Delivery Company.

Description: Oncor Electric Delivery Co submits First Revised Sheet 34 to FERC Electric Tariff, Fifth Revised Volume 2 to be effective 4/26/07.

Filed Date: 5/24/2007.

Accession Number: 20070525-0065.

Comment Date: 5 p.m. Eastern Time on Thursday, June 14, 2007.

Docket Numbers: ER07-933-000.

Applicants: Nevada Power Company.

Description: Nevada Power Co submits three Notices of Cancellation of FERC Rate Schedule 91, 94 and 95.

Filed Date: 5/24/2007.

Accession Number: 20070525-0064.

Comment Date: 5 p.m. Eastern Time on Thursday, June 14, 2007.

Docket Numbers: ER07-934-000.

Applicants: The Detroit Edison Company.

Description: The Detroit Edison Co submits Second Revised Sheet 23 et al to FERC Electric Tariff, First Revised Volume 5 to be effective 6/1/07.

Filed Date: 5/24/2007.

Accession Number: 20070525-0063.

Comment Date: 5 p.m. Eastern Time on Thursday, June 14, 2007.

Docket Numbers: ER07-935-000.

Applicants: Entergy Services, Inc.

Description: Entergy Services Inc proposes to amend its Available Flowgate Capacity Process Manual to implement a new process for determining generation dispatch levels in power flow models used to calculate AFC values.

Filed Date: 5/24/2007.

Accession Number: 20070529-0246.

Comment Date: 5 p.m. Eastern Time on Thursday, June 14, 2007.

Docket Numbers: ER07-936-000; ER07-958-000.

Applicants: Tiverton Power LLC and Rumford Power LLC.

Description: Tiverton Power, LLC and Rumford Power, LLC submits their application requesting authorization to sell power at market-based rates.

Filed Date: 5/24/2007.

Accession Number: 20070529-0245.

Comment Date: 5 p.m. Eastern Time on Thursday, June 14, 2007.

Docket Numbers: ER07-937-000.

Applicants: PacifiCorp.

Description: PacifiCorp submits the Transmission Interconnection Agreement dated 5/18/07 with Flowell Electric Association.

Filed Date: 5/24/2007.

Accession Number: 20070529-0240.

Comment Date: 5 p.m. Eastern Time on Thursday, June 14, 2007.

Docket Numbers: ER07-939-000.

Applicants: Columbia Utilities Power, LLC.

Description: Columbia Utilities Power, LLC submits a Petition for Acceptance of Initial Tariff, Waivers and Blanket Authority, FERC Electric Tariff, Original Volume 1.

Filed Date: 5/25/2007.

Accession Number: 20070530-0121.

Comment Date: 5 p.m. Eastern Time on Friday, June 15, 2007.

Docket Numbers: ER07-940-000.

Applicants: Midwest Independent Transmission System Operator, Inc.; PJM Interconnection, LLC.

Description: PJM Interconnection, LLC and Midwest Independent System Operator, Inc submits their revised Congestion Management Process of their Joint Operating Agreement and request waiver of FERC's notice requirements etc.

Filed Date: 5/25/2007.

Accession Number: 20070530-0120.

Comment Date: 5 p.m. Eastern Time on Friday, June 8, 2007.

Docket Numbers: ER07-941-000.

Applicants: Pacific Gas and Electric Company.

Description: Pacific Gas and Electric Company submits notice of termination of the revised Service Agreement for Wholesale Distribution Service and Letter Agreement with Modesto Irrigation District.

Filed Date: 5/25/2007.

Accession Number: 20070530-0135.

Comment Date: 5 p.m. Eastern Time on Friday, June 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-10819 Filed 6-5-07; 8:45 am]

BILLING CODE 6717-01-P